DEPARTMENT OF HEALTH AND HUMAN SERVICES

Centers for Disease Control and Prevention

Technical Assistance and Training for Immunization Coalitions and Immunization Information Dissemination

Announcement Type: New.

Funding Opportunity Number: 04085.

Catalog of Federal Domestic Assistance Number: 93.185.

Key Dates:

Application Deadline: May 3, 2004.

I. Funding Opportunity Description

Authority: Section 317(k)(1) of the Public Health Service Act (42 U.S.C. 247b(k)(1)).

Purpose: The Centers for Disease Control and Prevention (CDC) announces the availability of fiscal year (FY) 2004 funds for a cooperative agreement program for Technical Assistance and Training for Immunization Coalitions and Immunization Information Dissemination. The purpose of the program is to provide support for immunization coalitions and for the dissemination of immunization information to enhance the effectiveness of disease prevention programs that reduce the annual burden of vaccine preventable diseases. This program addresses the “Healthy People 2010” focus areas of Health Communications and Immunization and Infectious Diseases.

Measurable outcomes of the program will be in alignment with the following performance goal for the National Immunization Program (NIP): Reduce the number of indigenous cases of vaccine-preventable diseases; and ensure that two year-olds are appropriately vaccinated.

Activities: Awardee activities will enhance the ability of public and private sector organizations along with local, state, and national agencies to deliver programs that reduce the annual toll inflicted by vaccine preventable diseases. It is anticipated that up to two projects that support technical assistance and training for immunization coalitions and up to two projects that disseminate immunization information will be funded. Both types of projects need to have a national scope and focus. These projects will use proven and potentially promising or emerging coalition building and information dissemination methodologies and strategies to promote vaccination across the lifespan (i.e., childhood, adolescent and adult immunization recommendations and best practices). Both program components shall foster cooperation, collaboration, and communication between public and private organizations, Federal government agencies, state and local health departments, NIP partners and grantees, and others in their efforts to increase immunization coverage and reduce vaccine-preventable diseases.

This announcement has two program categories—applicants may respond to a single category or to both categories. However, only one category can be addressed in an application. Entities submitting proposals for both program components must submit two separate and complete applications—one application for the technical assistance and training component and a separate application for the information dissemination component.

Category I: Technical Assistance and Training for Immunization Coalitions

Awardee activities for this category are as follows:

• Support the development, operation, and/or evaluation of immunization coalitions including partnerships and community groups to enhance childhood, adolescent, and adult vaccination efforts at the local, regional, and national level through the development of immunization networks, partnership formation, and coalition building.

• Provide training and technical assistance in the areas of communication and health education strategies (e.g., social marketing, health and risk communications, and media relations) in the support of immunization coalitions.

• Network with private providers and public health entities/organizations to identify and promote successful programs and effective immunization strategies and tactics, including case examples, educational materials, media strategies, minority and hard-to-reach outreach efforts, and public relations strategies and disseminate them to coalition members and others at the local, state, and national level.

• Support existing immunization coalitions by providing consultation on the implementation of successful strategies, policies, and programs designed to improve the disease prevention capacity and immunization program efforts of these groups.

• Provide immunization coalitions and others with technical assistance through the use of information transfer, skills building, technical consultation, technical services, and technology transfer to enhance the abilities of these coalitions to reduce vaccine-preventable diseases.

• Develop communication processes to ensure rapid, effective dialog across and among coalition constituencies.

Category II: Information Dissemination

Awardee activities for this category are as follows:

• Develop and distribute immunization information using print, electronic, video, and digital formats on technical immunization guidelines, recommendations, and information, that are effective and culturally and linguistically appropriate for target audience(s).

• Distribute appropriate, readable, and useful technical immunization guidelines, educational materials, and information about successful immunization programs to national, state, and local health care providers, advocacy groups, private providers, and public health organizations, including state and local health departments and other NIP partners.

• Develop systems to increase communication among immunization providers at all levels to insure the rapid and successful dialogue between immunization providers.

• Provide education on advances in the field of immunization to inform diverse health care professionals of advances in the science of vaccine preventable diseases in order to ensure a technically competent immunization workforce.

• Develop process and impact evaluation measures to assure the delivery of credible, science-based information in understandable and effective formats consistent with the needs of the target audiences.

In a cooperative agreement, CDC staff is substantially involved in the program activities, above and beyond routine grant monitoring.

CDC Activities for this program are as follows:

• As appropriate, link funded applicants to a coordinated network of other NIP funded national organizations.

• Provide consultation and technical assistance in planning, implementing, and evaluating the activities of grantees. CDC may provide consultation both directly and indirectly through other partners, including health departments and contractors.

• Provide up-to-date scientific information on disease surveillance, immunization coverage, and vaccine technology, as well as risk communication, and findings from formative communications research.

• Assist in the design and implementation of program evaluation activities.

• Assist recipients in collaborating and exchanging information with State and local health departments, and other Federal agencies.

• Facilitate the transfer of successful program models and “lessons learned” through convening meetings of grantees and communication between project officers.

• Monitor the recipient's performance of program activities, and compliance with requirements.

II. Award Information

Type of Award: Cooperative Agreement. CDC involvement in this program is listed in the Activities Section above.

Fiscal Year Funds: 2004.

Approximate Total Funding: $682,200.

Approximate Number of Awards: A maximum of two projects in Category I and two projects in Category II.

Approximate Average Award: ranging from $100,000 to $400,000.

Floor of Award Range: None.

Ceiling of Award Range: $500,000.

Anticipated Award Date: June 1, 2004.

Budget Period Length: 12 months.

Project Period Length: Four years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations and by governmental agents such as:

• Public nonprofit organizations

• Private nonprofit organizations

• Universities

• Colleges

• Research institutions

• Hospitals

• Community-based organizations

• Faith-based organizations

• Federally recognized Indian tribal governments

• Indian tribes

• Indian tribal organizations

III.2. Cost Sharing or Matching

Matching funds are not required for this program.

III.3. Other

CDC will accept and review applications with budgets greater than the ceiling of the award range.

If your application is incomplete or non-responsive to the requirements listed in this section, it will not be entered into the review process. You will be notified that your application did not meet submission requirements.

In addition, to be eligible to apply, an organization must:

a. Have at least a three year record of providing similar technical assistance, services, or information dissemination about topics related to immunization in the United States, as demonstrated by letters of support, agency annual reports, previous Memoranda of Agreement, or a listing of previous grants with a similar focus.

b. Be able to operate nationally, as demonstrated by language in its bi-laws or letters of incorporation, or a letter from the Board of Directors stating that the organization operates nationally.

c. Have at least a three year record of operating nationally, as demonstrated by the date on the bi-laws or letters of incorporation, agency annual reports, previous Memoranda of Agreement, or a listing of previous grants with a national focus.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 35. If your narrative exceeds the page limit, only the first pages which are within the page limit will be reviewed.

• Font size: 12 point unreduced

• Spacing: Double spaced

• Paper size: 8.5 by 11 inches

• Page margin size: One inch

• Printed only on one side of page

• Held together only by rubber bands or metal clips; not bound in any other way.

Your narrative should address activities to be conducted over the entire project period, and must include the following items in the order listed here:

• Background and need

• Organizational history and capacity

• Program plan (including time phased, measurable objectives; methods or strategies; timelines; and staffing plan)

• Performance measures and evaluation plan

• Budget justification (will be counted in the stated page limit)

Additional information may be included in the application appendices. The appendices will not be counted toward the narrative page limit. This additional information includes:

• Proof of eligibility

• Curriculum Vitaes or Resumes

• Organizational Charts

• Letters of Support

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: May 3, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• These federal funds may not supplant or duplicate existing finding.

• The applicant must perform a substantial portion of the program activities and cannot serve merely as a fiduciary agent. Applications requesting funds to support only managerial and administrative functions will not be accepted.

• These federal funds may not be used to support the cost of developing applications for other funding.

If you are requesting indirect costs in your budget, you must include a copy of your indirect cost rate agreement. If your indirect cost rate is a provisional rate, the agreement should be less than 12 months of age. Awards will not allow reimbursement of pre-award costs.

Guidance for completing your budget can be found on the CDC Web site, at the following Internet address: http://www.cdc.gov/od/pgo/funding/budgetguide.htm.

IV.6. Other Submission Requirements

Application Submission Address: Submit the original and two hard copies of your application by mail or express delivery service to: Technical Information Management-PA# 04085, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element scored by the review panel.

Your application will be evaluated against the following criteria by an independent review group appointed by CDC:

a. Program Plan (30 points):

Category I Applications—Is the applicant's action plan to access and engage major agencies, private and public sector public health organizations, professional health associations, volunteer groups, and other organizations across the country feasible and appropriate? Does the applicant demonstrate their capability to successfully interact with these organizations to provide training and technical assistance and facilitate the sharing of information and ideas across a network of immunization coalitions?

Category II Applications—Does the applicant describe a feasible and appropriate action plan to identify immunization issues and new developments (e.g., new recommendations), communicate with, and reach, targeted populations, translate technical immunization information into appropriate new formats, develop and disseminate effective immunization material and information, and establish and implement a national immunization information/dissemination network?

Category I and Category II Applications—Are stated objectives specific, realistic, and time-phased? Are the proposed methods (i.e. strategies and activities) feasible? Will the proposed methods accomplish the program goals? Are program priorities and timelines for implementation of program efforts appropriate?

b. Organizational History and Capability (25 points): Is the applicant's ability to accomplish stated goals and objectives demonstrated based on relevant past experience, a sound management structure, and staff qualifications? Are staff roles and responsibilities defined and appropriate? Has the applicant played a role as an international, national, or regional immunization entity? Are the applicant's past and current training and technical assistance experiences, knowledge, and expertise documented and relevant? Does the applicant demonstrate that they have the capacity to achieve stated goals and objectives—including developing culturally appropriate public health interventions? Applicants that have made previous noteworthy contributions to address life long immunization needs will be considered more significant.

Category I Applicants—Must have two years of demonstrated history in coalition development and training and technical assistance at the local, regional, or national level for the purpose of promoting public health initiatives; this experience must be documented in the proposal (use appendix if necessary).

Category II Applicants—Must have two years of demonstrated history of producing and disseminating written and electronic health or disease prevention information such as websites, newsletters, media kits, posters, brochures, or information sharing kits and document this experience in the proposal (use appendix if necessary).

Category I and Category II Applicants—Must have two years of documented history working with and accessing major agencies, private and public sector public health organizations, professional health associations, volunteer groups, and other organizations across the country, and demonstrate their capability to successfully interact with other organizations to promote immunization across the lifespan.

Must have at least two years experience working in all of the following areas: Childhood immunization, adolescent immunization, and adult immunization.

c. Coordination and collaboration (20 points): Does the applicant describe strategies to develop and maintain a national network of immunization coalitions or a national information sharing network? Does the applicant plan to coordinate these activities with state and local immunization programs, existing immunization coalitions, provider organizations, and other appropriate agencies? Does the applicant describe how it will avoid duplication of services and communicate with other NIP funded organizations? Does the applicant describe any formal or informal partners or contractors? Does the applicant provide letters of support or letters of intent to document this effort?

d. Background and Need (15 points): Does the applicant demonstrate an understanding of immunization-related topics and issues, including infant, childhood, and adult immunization recommendations, immunization barriers and strategies for addressing them, evidence-based communication and education strategies for communicating vaccine benefits and risks, and problems associated with under-immunization? Does the applicant demonstrate an understanding of the purpose of the cooperative agreement?

e. Evaluation Plan (10 points): Does the applicant describe methods to evaluate the proposed plan, including process and impact evaluation? Have quantitative and qualitative measures been identified for assessing the achievement of program objectives, determining the health effect on the population, and monitoring the implementation of proposed activities?

f. Budget and Justification (not scored): Is the proposed budget adequately justified, reasonable, and consistent with proposed project activities and this program announcement?

V.2. Review and Selection Process

Applications will be reviewed for completeness by the Procurement and Grants Office (PGO) staff, and for responsiveness by NIP. Incomplete applications and applications that are non-responsive to the eligibility criteria will not advance through the review process. Applicants will be notified by mail that their application did not meet submission requirements.

An objective review panel will evaluate complete and responsive applications according to the criteria listed in the “V.1. Criteria” section above.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-7 Executive Order 12372.

• AR-10 Smoke-Free Workplace Requirements.

• AR-11 Healthy People 2010.

• AR-12 Lobbying Restrictions.

• AR-14 Accounting System Requirements.

• AR-15 Proof of Non-Profit Status.

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Description of progress made during the current budget period on program activities and objectives.

b. Current Budget Period Financial Progress.

c. New Budget Period Proposed Program Activities and measurable Objectives.

d. Budget.

e. Additional Requested Information.

f. Measures of Effectiveness.

2. Financial status report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Kari Sapsis, Project Officer, 1600 Clifton Rd., MS E-05, Atlanta, GA 30333, Telephone: 404-639-8837, E-mail: ksapsis@cdc.gov.

For financial, grants management, or budget assistance, contact: Peaches Brown, Grants Management Specialist, CDC Procurement and Grants Office,2920 Brandywine Road, Atlanta, GA 30341, Telephone: 770-488-2738,E-mail: prb0@cdc.gov.

Dated: February 27, 2004.
Edward Schultz,
Acting Director, Procurement and Grants Office, Centers for Disease Control and Prevention.

[FR Doc. 04-4808 Filed 3-3-04; 8:45 am]

BILLING CODE 4163-18-P